DEPARTMENT OF THE INTERIOR

Fish and Wildlife Service

Recovery Plan for Two Plants From Rota (Nesogenes rotensis and Osmoxylon mariannense)

AGENCY: U.S. Fish and Wildlife Service, Interior.

ACTION: Notice of document availability.

SUMMARY: We, the U.S. Fish and Wildlife Service, announce the availability of a recovery plan for two plants, Nesogense rotensis and Osmoxylon mariannense. These two plants are found only on the island of Rota in the Commonwealth of the Northern Mariana Islands and were federally listed as endangered in 2004.

ADDRESSES: Copies of the recovery plan are available by request from the U.S. Fish and Wildlife Service, Pacific Islands Fish and Wildlife Office, 300 Ala Moana Boulevard, Room 3-122, Box 50088, Honolulu, Hawaii 96850 (phone: 808-792-9400). An electronic copy of the recovery plan is also available at: http://www.fws.gov/endangered/recovery/index.html#plans.

FOR FURTHER INFORMATION CONTACT: Patrick Leonard, Field Supervisor, at the above Pacific Islands Fish and Wildlife Office.

SUPPLEMENTARY INFORMATION:

Background

Recovery of endangered or threatened animals and plants is a primary goal of the Endangered Species Act (Act) (16 U.S.C. 1531 et seq.) and our endangered species program. Recovery means improvement of the status of listed species to the point at which listing is no longer required under criteria set out in section 4(a)(1) of the Act. Recovery plans describe actions considered necessary for the conservation of the species, establish criteria for downlisting and delisting listed species, and estimate time and cost for implementing the measures needed for recovery.

The Act requires the development of recovery plans for endangered or threatened species unless such a plan would not promote the conservation of the species. Recovery plans help guide the recovery effort by describing actions considered necessary for the conservation of the species, and estimating time and cost for implementing the measures needed for recovery.

Section 4(f) of the Act requires that public notice and an opportunity for public review and comment be provided during recovery plan development. In fulfillment of this requirement, the Draft Recovery Plan for Two Points from Rota was made available for public comment from April 25 through June 26, 2006 (79 FR 23942). Information presented during the public comment period was considered in our preparation of this recovery plan, and is summarized in an appendix to the plan. We will forward substantive comments regarding recovery plan implementation to appropriate Federal or other entities so that they can take these comments into account during the course of implementing recovery actions.

Nesogenes rotensis and Osmoxylon mariannense are found only on the island of Rota in the Commonwealth of the Northern Mariana Islands. Both species were federally listed as endangered in 2004, and O. mariannense is also protected by the government of the Commonwealth of the Northern Mariana Islands. Currently, there are two known populations of N. rotensis of 15 to 20 plants each. This species is found on exposed, raised limestone flats in non-forested beach strand habitat that is subject to salt spray during severe storms. The 10 known individuals of O. mariannense are scattered within limestone forests within the Sabana, the cloudswept plateau that dominates the western half of Rota that is often shrouded in clouds and mist.

Human activities and introduced species that alter native vegetation and habitat are believed to be the primary factors leading to the small population sizes and limited distribution of both species. These activities include agriculture; ranching; non-native plant and animal introductions; resort and beach park development in the coastal habitat of Nesogenes rotensis; and road construction and maintenance in the Sabana habitat of Osmoxylon mariannense. In the last decade, several major typhoons have made landfall on Rota, severely impacting individuals of both species. Another factor that may affect the recovery of these two species is their vulnerability to extinction from reduced reproductive vigor due to their small population sizes. Recovery actions in this plan are designed to address threats to both species in order to achieve the recovery objectives of downlisting to threatened status and eventual delisting.

The overall objective of this recovery plan is to restore and maintain multiple naturally reproducing populations of both species on the island of Rota such that the protections of the Act are no longer necessary. The recovery strategy focuses on: (1) Protecting and restoring the native coastal strand and forest habitat of Nesogenes rotensis and Osmoxylon mariannense, respectively; (2) establishing new populations and augmenting existing populations of both species through methods that include controlled propagation and outplanting; (3) assessing the impacts of feral ungulates (deer and pigs), rats, mice, insects, diseases, and introduced plants, and determining appropriate control or eradication methods; (4) building public support for conservation; and (5) reassessing and refining recovery actions as appropriate.

Authority

The authority for this action is section 4(f) of the Endangered Species Act, 16 U.S.C. 1533(f).

Dated: February 14, 2007.
David J. Wesley,
Acting Regional Director, Region 1, U.S. Fish and Wildlife Service.

[FR Doc. 07-2179 Filed 5-2-07; 8:45 am]

BILLING CODE 4310-55-M